FEDERAL RESERVE SYSTEM

Formations of, Acquisitions by, and Mergers of Bank Holding Companies; Correction

This notice corrects a notice (FR Doc. 2010-32092) published on page 80501 of the issue for Wednesday, December 22, 2010.

Under the Federal Reserve Bank of New York heading, the entry for Chuo Mitsui Trust Holding, Inc., Tokyo, Japan, is revised to read as follows:

A. Federal Reserve Bank of New York (Ivan Hurwitz, Vice President) 33 Liberty Street, New York, New York 10045-0001:

1. Chuo Mitsui Trust Holdings, Inc., Tokyo, Japan; to become a bank holding Company by acquiring The Sumitomo Trust and Banking Co., Ltd, Osaka, Japan, and thereby acquire Sumitomo Trust and Banking Co. (USA), Hoboken, New Jersey.

In connection with this application, Applicant also has applied to acquire Nikko Americas Holding Co., Inc., Nikko Asset Management Americas, Inc., and Chuo Mitsui Investments, all in New York, New York, and thereby engage in investment advisory activities, pursuant to section 225.24(b)(6) of Regulation Y.

Comments on this application must be received by January 18, 2011.

Board of Governors of the Federal Reserve System, December 22, 2010.
Robert deV. Frierson,
Deputy Secretary of the Board.

[FR Doc. 2010-32593 Filed 12-27-10; 8:45 am]

BILLING CODE 6210-01-P